DEPARTMENT OF HOMELAND SECURITY

[Docket No. CISA-2025-0002]

Agency Information Collection Activities; Submission to the Office of Management and Budget for Review and Approval; Comment Request; Visitor Request Form

AGENCY: Cybersecurity and Infrastructure Security Agency (CISA), Department of Homeland Security (DHS).

ACTION: 30-Day notice of Information Collection; request for comment; This a renewal of existing 11000-39 Visitor Request Form, 1670-0036 that was previously approved on August 05, 2022, with an expiration date of November 30, 2025.

SUMMARY: The Office of the Chief Security Officer (OCSO) within Cybersecurity and Infrastructure Security Agency (CISA) submits the following information collection request (ICR) to the Office of Management and Budget (OMB) for review and clearance. CISA previously published this information collection request (ICR) in the Federal Register on August 20, 2025, for a 60-day public comment period. No comments were received by CISA. The purpose of this notice is to allow an additional 30 days for public comments.

DATES: Comments are encouraged and will be accepted until December 29, 2025. Submissions received after the deadline for receiving comments may not be considered.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Michael A. Washington, Jr., 703-235-1925, Michael.Washington@mail.cisa.dhs.gov.

SUPPLEMENTARY INFORMATION: Public Law 107-296 The Homeland Security Act of 2002, Title II, recognizes the Department of Homeland Security's role in integrating relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission, CISA Office of the Chief Security Officer (OCSO) must maintain a robust visitor screening capability. CISA OCSO will collect, using an electronic form, information about each potential visitor to CISA facilities and the nature of each visit. CISA OCSO will use collected information to make a risk-based decision to allow visitor access to CISA facilities. This is an extension of an existing information collection.

Analysis

Agency: Cybersecurity and Infrastructure Security Agency (CISA), Department of Homeland Security (DHS).

Title: Cybersecurity and Infrastructure Security Agency (CISA) Visitor Request Form.

OMB Number: 1670-0036.

Frequency: Annually.

Affected Public: Private and Public Sector.

Number of Respondents: 20,000.

Estimated Time Per Respondent: 10 minutes.

Total Burden Hours: 3,333 hours.

Total Annual Burden Cost: $158,010.66.

Total Government Burden Cost: $366,514.16.

Robert J. Costello,
Chief Information Officer, Department of Homeland Security, Cybersecurity and Infrastructure Security Agency.

[FR Doc. 2025-21452 Filed 11-26-25; 8:45 am]

BILLING CODE 9111-LF-P